DEPARTMENT OF EDUCATION

[Docket No.: ED-2025-SCC-0005]

Agency Information Collection Activities; Comment Request; School Pulse Panel 2025-26 Data Collection Activities

AGENCY: National Center for Education Statistics (NCES), Department of Education (ED).

ACTION: Notice.

SUMMARY: In accordance with the Paperwork Reduction Act (PRA) of 1995, the Department is proposing a revision of a currently approved information collection request (ICR).

DATES: Interested persons are invited to submit comments on or before MARCH 17, 2025.

ADDRESSES: To access and review all the documents related to the information collection listed in this notice, please use http://www.regulations.gov by searching the Docket ID number ED-2025-SCC-0005. Comments submitted in response to this notice should be submitted electronically through the Federal eRulemaking Portal at http://www.regulations.gov by selecting the Docket ID number or via postal mail, commercial delivery, or hand delivery. If the regulations.gov site is not available to the public for any reason, the Department will temporarily accept comments at ICDocketMgr@ed.gov. Please include the docket ID number and the title of the information collection request when requesting documents or submitting comments. Please note that comments submitted after the comment period will not be accepted. Written requests for information or comments submitted by postal mail or delivery should be addressed to the Manager of the Strategic Collections and Clearance Governance and Strategy Division, U.S. Department of Education, 400 Maryland Ave. SW, LBJ, Room 4C210, Washington, DC 20202-1200.

FOR FURTHER INFORMATION CONTACT: For specific questions related to collection activities, please contact Carrie Clarady, 202-245-6347.

SUPPLEMENTARY INFORMATION: The Department, in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. The Department is soliciting comments on the proposed information collection request (ICR) that is described below. The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: School Pulse Panel 2025-26 Data Collection Activities.

OMB Control No.: 1850-0975.

Type of Review: A revision of a currently approved ICR.

Respondents/Affected Public: State, Local, and Tribal Governments.

Total Estimated Number of Annual Responses: 53,955.

Total Estimated Number of Annual Burden Hours: 10,175.

Abstract: The School Pulse Panel (SPP) is a data collection that was originally designed to collect voluntary responses from a nationally representative sample of public schools to better understand how schools, students, and educators were responding to the ongoing stressors of the coronavirus pandemic. The School Pulse Panel is conducted by the National Center for Education Statistics (NCES), part of the Institute of Education Sciences (IES), within the United States Department of Education. Initially, the purpose of the study was to collect extensive data on issues brought to light by the COVID-19 pandemic, as well as other important education-related issues that could inform data-driven policy decisions, in U.S. public schools. Due to the immediate need to collect pandemic-era information from schools as described in Executive Order 14000, an emergency clearance was issued to develop and field the first several monthly collections of the SPP in 2021 and a full review of the SPP data collection was performed in 2022 (OMB# 1850-0969). SPP's innovative design and timely dissemination of findings have been used and cited frequently among Department of Education senior leadership, the White House Domestic Policy Council, the USDA's Food and Nutrition Service, the Centers for Disease Control and Prevention, Congressional deliberations, and the media. The growing interest from stakeholders resulted in a request for funding to create an established NCES quick-turnaround data collection vehicle to become a mainstay for NCES. Funding for a mainstay collection was approved in late 2022, and NCES conducted a new collection during the 2023-24 and 2024-25 school years.

The School Pulse Panel study is one of the few reliable, nationally representative, quick-turnaround studies that produces data on U.S. public schools. The sample design for the 2025-26 collection will roughly be the same as the 2023-24 and 2024-25 collections with 4,000 public schools randomly selected to an initial sample and 4,000 in a reserve sample. It is expected these schools will come from roughly 3,000 districts. The goal is national representation from about 1,200 responding schools each month in order to report out national estimates. School staff will be asked to provide requested data monthly during the 2025-26 school year. This approach provides the ability to collect detailed information on various topics while also assessing changes over time for items that are repeated from year to year. Given the demand for data collection, the content of the survey is expected to change monthly. For the 2025-26 school year, the survey may ask school staff about a wide range of topics, including but not limited to staffing; learning recovery; absenteeism; usage of federal funds; facilities; transportation; technology; and overall principal and staff experiences.

This submission will undergo a 60-day public comment period, followed by an additional 30-day public comment period. We continue to make revisions to the communication materials (Appendix A) and will present final versions for the 30-day comment period. Items in the Item Bank (Appendix B) that have not already been approved are consider draft and will undergo cognitive testing and revision before final administration. Final instruments for the August, September, and October 2025 surveys (Appendix C1) will be added to this package during the 30-day public comment, to be posted in spring 2025. Final items will be submitted to OMB through a change request. Subsequent quarterly instruments will also be posted for 30-day comment in the months immediately preceding their administration, potentially followed by change requests to allow for small changes in items as deemed necessary by cognitive testing. Materials for SPP are cleared under two OMB Number sequences. Materials for SPP 2022 and SPP 2024-25 were cleared under OMB# 1850-0969, while SPP 2023-24 and now SPP 2025-26 are cleared under OMB# 1850-0975.

Dated: January 10, 2025.
Stephanie Valentine,
PRA Coordinator, Strategic Collections and Clearance, Governance and Strategy Division, Office of Chief Data Officer, Office of Planning, Evaluation and Policy Development.

[FR Doc. 2025-00781 Filed 1-14-25; 8:45 am]

BILLING CODE 4000-01-P